DEPARTMENT OF TRANSPORTATION

Research and Special Programs Administration

Office of Hazardous Materials Safety; Notice of Delays in Processing of Exemption Applications

AGENCY: Research and Special Program Administration, DOT.

ACTION: List of Applications Delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepeth, Director, Office of Hazardous Materials, Exemptions and Approvals, Research and Special Programs Administration, U.S. Department of Transportation, 400 Seventh Street, SW, Washington, DC 20590-0001, (202) 366-4535.

Key to “Reasons for Delay”

1. Awaiting additional information from applicant.

2. Extensive public comment under review.

3. Application is technically complex and is of significant impact or precedent-setting and requires extensive analysis.

4. Staff review delayed by other priority issues or volume of exemption applications.

Meaning of Applicants Number Suffixes

N—New application

M—Modification request

PM—Party to application with modification request

Issued in Washington, DC, on May 24, 2001.
J. Suzanne Hedgepeth,
Director, Office of Hazardous Materials Exemptions and Approvals.

Application number | Applicant | Reason for delay | Estimated date of completion
NEW EXEMPTION APPLICATIONS
11862-N | The BOC Group, Murray Hill, NJ | 4 | 6/29/2001
11927-N | Alaska Marine Lines, Inc., Seattle, WA | 4 | 6/29/2001
12158-N | Hickson Corporation, Conley, GA | 4 | 6/29/2001
12248-N | Ciba Specialty Chemicals Corp, High Point, NC | 1, 4 | 6/29/2001
12290-N | Savage Industries, Inc., Pottstown, PA | 4 | 6/29/2001
12339-N | BOC Gases, Murray Hill, NJ | 4 | 6/29/2001
12353-N | Monson Companies, South Portland, ME | 4 | 6/29/2001
12355-N | Union Tank Car Company, East Chicago, IN | 4 | 6/29/2001
12381-N | Ideal Chemical & Supply Co., Memphis, TN | 4 | 6/29/2001
12406-N | Occidental Chemical Corporation, Dallas, TX | 4 | 6/29/2001
12412-N | Great Western Chemical Company, Portland, OR | 4 | 6/29/2001
12422-N | Connecticut Yankee Atomic Power Co., East Hampton, CT | 1, 4 | 6/29/2001
12434-N | Salmon Air, Salmon, ID | 4 | 6/29/2001
12440-N | Luxfer Inc., Riverside, CA | 4 | 7/31/2001
12454-N | Ethyl Corp., Richmond, VA | 4 | 7/31/2001
12456-N | Baker Hughes, Houston, TX | 4 | 7/31/2001
12497-N | Henderson International Technologies, Inc., Richardson, TX | 4 | 7/31/2001
12516-N | Poly-Coat Systems, Inc., Houston, TX | 4 | 6/29/2001
12566-N | General Atomics, San Diego, CA | 4 | 7/31/2001
12571-N | Air Products & Chemicals, Inc., Allentown, PA | 4 | 7/31/2001
12574-N | Weldship Corporation, Bethlehem, PA | 4 | 7/31/2001
12586-N | Wilsonart International Inc., Temple, TX | 4 | 7/31/2001
12587-N | Georgia-Pacific Corp., Crossett, AR | 4 | 7/31/2001
12588-N | El Dorado Chemical Co., Creve Ceour, MO | 4 | 7/31/2001
12590-N | US Airways, Pittsburgh, PA | 4 | 7/31/2001
12591-N | SGL Carbon, LLC, Morgantown, NC | 1 | 6/29/2001
12592-N | Matson Navigation Co., San Francisco, CA | 4 | 7/31/2001
12605-N | Ashland, Inc., Dublin, OH | 4 | 7/31/2001
12646-N | Consani Engineering, Elsie River, SA | 4 | 7/31/2001
MODIFICATIONS TO EXEMPTIONS
7060-M | Federal Express, Memphis, TN | 4 | 6/29/2001
8086-M | The Boeing Co (Mil Aircraft & Missiles Sys Group), Seattle, WA | 4 | 6/29/2001
8308-M | Tradewind Enterprises, Inc., Hillsboro, OR | 4 | 6/29/2001
8554-M | Orica USA, Inc., Englewood, CO | 4 | 6/29/2001
9758-M | The Coleman Company, Inc., Wichita, KS | 4 | 7/31/2001
10656-M | Conf. of Radiation Control Program Directors, Inc., Frankfort, KY | 4 | 7/31/2001
10915-M | Luxfer Gas Cylinders (Composite Cylinder Div), Riverside, CA | 4 | 6/29/2001
11202-M | Newport News Shipbuilding & Dry Dock Co, Newport News, VA | 4 | 7/31/2001
11316-M | TRW Automotive, Queen Creek, AZ | 4 | 6/29/2001
11526-M | BOC Gases, Murray Hill, NJ | 4 | 6/29/2001
11537-M | JCI Jones Chemicals, Inc., Milford, VA | 4 | 6/29/2001
11769-M | Great Western Chemical Company, Portland, OR | 4 | 6/29/2001
11769-M | Great Western Chemical Company, Portland, OR | 4 | 6/29/2001
11769-M | Hydrite Chemical Company, Brookfield, WI | 4 | 6/29/2001
11798-M | Air Products and Chemicals, Inc., Allentown, PA | 4 | 6/29/2001
11798-M | Anderson Development Company, Adrian, MI | 4 | 7/31/2001
11911-M | Transfer Flow, Inc., Chico, CA | 4 | 7/31/2001
12022-M | Taylor-Wharton (Harsco Gas & Fluid Control Group), Harrisburg, PA | 4 | 7/31/2001
12102-M | Onyx Environmental Services, L.L.C., Ledgewood, NJ | 4 | 7/31/2001
12178-M | STC Technologies, Inc., Bethlehem, PA | 1 | 6/29/2001
12581-M | Nat'l Aero & Space Admn (NASA), Goddard Space Ctr., Greenbelt, MD | 4 | 7/31/2001

[FR Doc. 01-13935 Filed 6-1-01; 8:45 am]

BILLING CODE 4910-60-M